DEPARTMENT OF DEFENSE

Department of the Army

Final Environmental Impact Statement for the Implementation of Energy, Water, and Solid Waste Sustainability Initiatives at Fort Bliss, TX and NM

AGENCY: Department of the Army, DoD.

ACTION: Notice of Availability.

SUMMARY: The Department of the Army announces the availability of the Final Environmental Impact Statement (EIS) for the implementation of energy, water, and solid waste sustainability initiatives at Fort Bliss, Texas and New Mexico. The Department proposes to implement Net Zero energy, water, and waste initiatives at Fort Bliss, which would also facilitate meeting mandates for renewable energy production and greenhouse gas emissions reductions. In so implementing Net Zero, the Army will enhance Fort Bliss' energy and water security, supporting the military mission into the future. Although some training land would be converted to other uses, Fort Bliss would not lose any overall training capability as a result of Net Zero project implementation. The Proposed Action consists of multiple, related, and interconnected projects to achieve Net Zero goals, comply with federal and Army energy mandates, and meet the Army's energy and water security objectives.

The proposed action has six alternatives. The Final EIS indicates that there could be significant impacts to air quality, vegetation, archeological sites, soils, land use, and traffic. Of these, all but land use (as a result of converting training land to developed land) are anticipated to be mitigable to less than significant.

DATES: The waiting period for the Final EIS will end 30 days after publication of the Notice of Availability in the Federal Register by the U.S. Environmental Protection Agency, at which time the Army may execute a record of decision.

ADDRESSES: Written comments may be addressed to Dr. John Kipp, Fort Bliss Directorate of Public Works, Attention: IMBL-PWE (Kipp), Building 624 Pleasonton Road, Fort Bliss, TX 79916; email: john.m.kipp6.civ@mail.mil; fax: (915) 568-3548.

FOR FURTHER INFORMATION CONTACT: Please contact Ms. Donita Kelley, Fort Bliss Public Affairs Office, Attention: IMBL-PA (Kelley), Building 15 Slater Road, Fort Bliss, TX 79916; phone: (915) 568-4505; email: donita.k.schexnaydre.civ@mail.mil.

SUPPLEMENTARY INFORMATION: The Army examined the potential environmental and socioeconomic impacts from implementing multiple, related, and interconnected proposed projects that could be taken to implement Net Zero energy, water, and waste initiatives, comply with federal and Army energy mandates, and meet the Army's energy and water security objectives. Not all projects analyzed in the Final EIS would be implemented to the full extent discussed in the document. Technological advancements, legislative changes, and other factors may result in revisions to the proposed projects.

The preferred alternative (Proposed Action) consists of six action alternatives (Alternatives 2 through 7): Implementation of conservation policies and procedures (Alternative 2); construction of a water reclamation pipeline (Alternative 3); construction and operation of a waste-to-energy plant (Alternative 4); construction and operation of a geothermal energy facility (Alternative 5); and construction of dry-cooled concentrating solar power technology (Alternative 6). Alternative 7 proposes implementation of other renewable energy technologies and projects that are compatible with installation planning criteria and address potential future renewable energy, water, and waste technology actions at a programmatic level. As warranted, additional site-specific documentation supporting National Environmental Policy Act processes will occur prior to execution of individual facility construction activities.

The Final EIS also analyzes the potential environmental impacts of the No Action Alternative (Alternative 1) and the cumulative impacts of the Proposed Action in combination with other past, present, and reasonably foreseeable future actions.

In developing the Final EIS, the Army took into consideration the comments received on the Draft EIS. Included among the changes made since publication of the Draft EIS are the removal of site-specific locations for a proposed waste-to-energy plant and a commitment to conduct further analysis, should the Army consider pursuing this type of technology in the future.

The Final EIS addresses potential environmental and socioeconomic impacts from implementation of the Proposed Action. Impacts range from beneficial to no effect to significant. There could be significant impacts to air quality, vegetation, archeological sites, soils, land use, and traffic. Of these, all but land use (as a result of converting training land to developed land) and soils (disturbance of up to 300 acres for construction of concentrating solar power arrays) are anticipated to be mitigable to less than significant. Potentially beneficial impacts are projected for air quality, energy demand and generation, socioeconomics, water supply sources, water demand, and wastewater reuse. The Army has consulted with the U.S. Fish and Wildlife Service, Texas and New Mexico State Historic Preservation Offices, Tribes, and other consulting parties to mitigate potential impacts to biological and cultural resources. The EIS identifies mitigation to lessen adverse impacts.

Cooperating Agencies: The US Air Force (Holloman Air Force Base [AFB]) is a cooperating agency on the Final EIS. Certain proposed projects considered in the alternatives evaluated could affect Holloman AFB units that use Fort Bliss ranges and airspace for training operations.

The U.S. Army plans to issue a Record of Decision following a 30-day waiting period beginning with the date of this notice. The Record of Decision will include final mitigation measures the Army will adopt.

Copies of the Final EIS are available at the following libraries: El Paso Main Library, Irving Schwartz Branch Library, Richard Burges Branch Library, and University of Texas at El Paso Library in El Paso, TX; Alamogordo Public Library in Alamogordo, NM; and, New Mexico State University Zuhl Library and Thomas Branigan Memorial Library in Las Cruces, NM. The Final EIS may also be accessed at http://ftblissnetzeroeis.net/index.html or https://www.bliss.army.mil/DPW/Environmental/EISDocuments2.html.

Brenda S. Bowen,
Army Federal Register Liaison Officer.

[FR Doc. 2014-06176 Filed 3-20-14; 8:45 am]

BILLING CODE 3710-08-P